DEPARTMENT OF ENERGY

Federal Energy Regulatory Commission

18 CFR Part 381

[Docket No. RM25-5-000]

Annual Update of Filing Fees

AGENCY: Federal Energy Regulatory Commission (Commission or FERC), Department of Energy (DOE).

ACTION: Final rule; annual update of Commission filing fees.

SUMMARY: In accordance with the Commission's regulations, the Commission issues this update of its filing fees. This document provides the yearly update using data in the Commission's Financial System to calculate the new fees. The purpose of updating is to adjust the fees on the basis of the Commission's costs for Fiscal Year 2024.

DATES: Effective March 3, 2025.

FOR FURTHER INFORMATION CONTACT: Muhammed Fofana, Office of the Executive Director, Federal Energy Regulatory Commission, 888 1st Street NE, Washington, DC 20426, 202-502-6046, Muhammed.Fofana@ferc.gov.

SUPPLEMENTARY INFORMATION:

I. Introduction

1. The Commission is issuing this document to update filing fees that the Commission assesses for specific services and benefits provided to identifiable beneficiaries. Pursuant to 18 CFR 381.104, the Commission is establishing updated fees on the basis of the Commission's Fiscal Year 2024 costs.

II. Information Collection Statement

2. The Office of Management and Budget (OMB) approves certain information collection requirements imposed by agency rule.¹ However, this rule does not contain any new or additional information collection requirements. Therefore, compliance with OMB's regulations is not required.

¹ 5 CFR 1320.12.

III. Environmental Analysis

3. The Commission is required to prepare an Environmental Assessment or an Environmental Impact Statement for any action that may have a significant adverse effect on the human environment.²

² Regulations Implementing the National Environmental Policy Act, Order No. 486, 52 FR 47897 (Dec. 17, 1987), FERC Stats. & Regs. ¶ 30,783.

4. Part 380 of the Commission's regulations lists exemptions to the requirement to draft an Environmental Analysis or Environmental Impact Statement. Included is an exemption for procedural, ministerial, or internal administrative actions.³ Accordingly, this rulemaking is exempt from the requirement to draft such documents under that provision.

³ 18 CFR 380.4(a)(1).

IV. Regulatory Flexibility Act

5. The Regulatory Flexibility Act of 1980 (RFA) ⁴ generally requires a description and analysis of final rules that will have a significant economic impact on a substantial number of small entities. This rule concerns an update to filing fees. The Commission certifies that it will not have a significant economic impact upon participants in Commission proceedings. An analysis under the RFA is therefore not required.

⁴ 5 U.S.C. 601-12.

V. Document Availability

6. In addition to publishing the full text of this document in the Federal Register, the Commission provides all interested persons an opportunity to view and/or print the contents of this document via the internet through the Commission's Home Page (https://www.ferc.gov).

7. From FERC's Home Page on the internet, this information is available on eLibrary. The full text of this document is available on eLibrary in PDF and Microsoft Word format for viewing, printing, and/or downloading. To access this document in eLibrary, type the docket number excluding the last three digits of this document in the docket number field.

8. User assistance is available for eLibrary and the FERC's website during normal business hours from FERC Online Support at (202) 502-6652 (toll free at 1-866-208-3676) or email at ferconlinesupport@ferc.gov, or the Public Reference Room at (202) 502-8371, TTY (202) 502-8659. Email the Public Reference Room at public.referenceroom@ferc.gov.

VI. Effective Date

9. The Commission is issuing this rule as a final rule without a period for public comment. Under 5 U.S.C. 553(b)(3)(A), notice-and-comment rulemaking procedures are unnecessary for “rules of agency organization, procedure, or practice.” This rule is therefore exempt from notice-and-comment rulemaking procedures because it concerns the Commission's procedures and practices. In particular, the rule adjusts filing fee amounts. The rule will not significantly affect regulated entities or the general public.

10. This rule is effective March 3, 2025.

The new fee schedule is as follows:

Fees Applicable to the Natural Gas Policy Act
1. Petitions for rate approval pursuant to 18 CFR 284.123(b)(2). (18 CFR 381.403) | $20,360
Fees Applicable to General Activities
1. Petition for issuance of a declaratory order (except under Part I of the Federal Power Act). (18 CFR 381.302(a)) | 40,900
2. Review of a Department of Energy remedial order:
Amount in controversy:
$0-9,999. (18 CFR 381.303(b)) | 100
$10,000-29,999. (18 CFR 381.303(b)) | 600
$30,000 or more. (18 CFR 381.303(a)) | 59,710
3. Review of a Department of Energy denial of adjustment:
Amount in controversy:
$0-9,999. (18 CFR 381.304(b)) | 100
$10,000-29,999. (18 CFR 381.304(b)) | 600
$30,000 or more. (18 CFR 381.304(a)) | 31,310
4. Written legal interpretations by the Office of General Counsel. (18 CFR 381.305(a)) | 11,730
Fees Applicable to Natural Gas Pipelines
1. Pipeline certificate applications pursuant to 18 CFR 284.224. (18 CFR 381.207(b)) | * 1,000
Fees Applicable to Cogenerators and Small Power Producers
1. Certification of qualifying status as a small power production facility. (18 CFR 381.505(a)) | 35,170
2. Certification of qualifying status as a cogeneration facility. (18 CFR 381.505(a)) | 39,810
* This fee has not been changed.

List of Subjects in 18 CFR Part 381

Electric power plants, Electric utilities, Natural gas, Reporting and recordkeeping requirements.

Issued: January 8, 2025.
Anton C. Porter,
Executive Director.

In consideration of the foregoing, the Commission amends part 381, chapter I, title 18, Code of Federal Regulations, as set forth below.

PART 381—FEES

1. The authority citation for part 381 continues to read as follows:

Authority: 15 U.S.C. 717-717w; 16 U.S.C. 791-828c, 2601-2645; 31 U.S.C. 9701; 42 U.S.C. 7101-7352; 49 U.S.C. 60502; 49 App. U.S.C. 1-85.

§ 381.302 [Amended]

2. In § 381.302, paragraph (a) is amended by removing “$37,760” and adding “$40,900” in its place.

§ 381.303 [Amended]

3. In § 381.303, paragraph (a) is amended by removing “$55,120” and adding “$59,710” in its place.

§ 381.304 [Amended]

4. In § 381.304, paragraph (a) is amended by removing “$28,900” and adding “$31,310” in its place.

§ 381.305 [Amended]

5. In § 381.305, paragraph (a) is amended by removing “$10,830” and adding “$11,730” in its place.

§ 381.403 [Amended]

6. In § 381.403, remove “$18,790” and add “$20,360” in its place.

§ 381.505 [Amended]

7. In § 381.505, paragraph (a) is amended by removing “$32,470” and “$36,750” and adding “$35,170” and “$39,810” in their places, respectively.

[FR Doc. 2025-01975 Filed 1-29-25; 8:45 am]

BILLING CODE 6717-01-P